DEPARTMENT OF TRANSPORTATION

National Highway Traffic Safety Administration

[Docket No. NHTSA 2001-9426; Notice 1]

Mazda Motor Corporation, Receipt of Application for Decision of Inconsequential Noncompliance

Mazda Motor Corporation has determined that certain 2000 Mazda MPVs do not meet the labeling requirements of paragraphs S5.1 and S5.2 of Federal Motor Vehicle Safety Standard (FMVSS) No. 120 “Tire Selection and Rims for Motor Vehicles Other than Passenger Cars”. Pursuant to 49 U.S.C. 30118(d) and 30120(h), Mazda has petitioned for a determination that this noncompliance is inconsequential to motor vehicle safety and has filed an appropriate report pursuant to 49 CFR Part 573, “Defect and Noncompliance Reports.”

This notice of receipt of an application is published under 49 U.S.C. 30118 and 30120 and does not represent any agency decision or other exercise of judgment concerning the merits of the application. Mazda states that the noncompliance are inconsequential as related to motor vehicle safety and requests exemption from the notification and recall requirements.

Mazda manufactured 19,569 model year 2000 MPVs equipped with 15-inch tires with an incorrect maximum load rating marked on the sidewall. According to Mazda, the maximum load marked on the tires is 635 kg, whereas the correct maximum load for the tires is 670 kg. The actual load marking of 635 kg. is noncompliant with FMVSS No. 120, S5.1.2, which requires that the maximum tire load capacity exceed the gross axle weight rating. The primary safety problem that may result from this noncompliance is the purchase of incorrect replacement tires for the original equipment tires. Mazda states that the noncompliance is inconsequential to motor vehicle safety because the owner's manual for the vehicle lists the correct maximum load rating for the MPV tires of 670 kg, and that tires rated at 635 kg maximum load have sufficient compliance margin to be appropriate for use on the 2000 Mazda MPV.

Mazda's petition stated that the company also produced 6,036 vehicles with 15-inch steel rims that are noncompliant with the requirements of FMVSS No. 120, S5.2. These rims do not contain a designation which indicates the source of the rim's published nominal dimensions as required by S5.2(a). Additionally, the rims do not contain the “DOT” symbol as required by S5.2(c). Mazda states that the noncompliance with S5.2(a) is inconsequential to motor vehicle safety because the dimensions for the 15X6JJ rim do not vary significantly among the different publication sources. Therefore, according to Mazda, any rim of the correct size designation should be appropriate for the 2000 Mazda MPV. With respect to the DOT symbol marking, Mazda states that the 15-inch steel rims comply with all federal requirements that may have an impact on motor vehicle safety and that it does not consider this noncompliance to be a safety problem.

Interested persons are invited to submit written data, views and arguments on the application described above. Comments should refer to the docket number and be submitted to: U.S. Department to Transportation, Docket Management, Room PL-401, 400 Seventh Street, SW, Washington, DC 20590. It is requested that two copies be submitted.

All comments received before the close of business on the closing date indicated below will be considered. The application and supporting materials, and all comments received after the closing date, will also be filed and will be considered to the extent possible. After the Agency has determined that the application will be granted or denied, a notice will be published in the Federal Register pursuant to the authority indicated below. Comment closing date: (30 days after Publication Date).

(49 U.S.C. 301118, 301120; delegations of authority at 49 CFR 1.50 and .501.8)

Issued on: April 26, 2001.
Stephen R. Kratzke,
Associate Administrator for Safety Performance Standards.

[FR Doc. 01-10798 Filed 4-30-01; 8:45 am]

BILLING CODE 4910-59-P